DEPARTMENT OF TRANSPORTATION

Federal Railroad Administration

[Docket Number FRA-2013-0071]

Petition for Waiver of Compliance

In accordance with Part 211 of Title 49 Code of Federal Regulations (CFR), this document provides the public notice that by a document dated June 15, 2013, Symans Enterprise has petitioned the Federal Railroad Administration (FRA) for a waiver of compliance from certain provisions of the Federal railroad safety regulations contained at 49 CFR Part 215. FRA assigned the petition Docket Number FRA-2013-0071.

Specifically, Symans Enterprise seeks an exemption from the requirements for stenciling of restricted cars for two cars: (1) Car Number 604, a Pennsylvania Railroad open car, and (2) Car Number 514, a 1914 Lehigh New England Bobber caboose. Title 49 CFR 215.303 requires that cars deemed restricted by 49 CFR 215.203(a) shall be stenciled in a certain way. Symans Enterprise requests that it be permitted to leave the cars with their historical stenciling, and that it be exempted from stenciling these two cars with the large “R” usually required on restricted cars, as it would detract from the historical image.

Symans Enterprise states that the subject freight cars were converted to carry passengers. The subject cars and their type, capacities, reporting marks, and other features are listed in an enclosure with the petition letter. Also included in the enclosure are the design, type, components, or other items that cause each car to be restricted.

Symans Enterprise further states that the subject cars will be trucked by the company to the various locations for service, and the cars will be used for tourist attractions and historical purposes and will not be interchanged in regular freight operations. The cars will be serviced, inspected, and maintained in compliance with all applicable regulations with the exception of the conditions that require special approvals.

In addition, Symans Enterprise has requested a Special Approval for these cars to continue in service in accordance with 49 CFR 205.203(c).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 21, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby,
Deputy Associate Administrator for Regulatory and Legislative Operations.

[FR Doc. 2013-21695 Filed 9-5-13; 8:45 am]

BILLING CODE 4910-06-P